DEPARTMENT OF LABOR

Occupational Safety and Health Administration

29 CFR Parts 1910, 1915, and 1926

[Docket No. H049C]

RIN 1218-AA05

Assigned Protection Factors

AGENCY: Occupational Safety and Health Administration (OSHA), Department of Labor.

ACTION: Proposed rule; extension of comment period.

SUMMARY: OSHA is extending the deadline for receipt of public comments on its proposed rule “Assigned Protection Factors” to October 2, 2003. This action is in response to interested parties who have requested the additional time.

DATES: Comments and data must be submitted by October 2, 2003. Comments submitted by mail must be postmarked no later than October 2, 2003.

ADDRESSES: Written comments. You may submit three copies of written comments to the Docket Office, Docket No. H-049C, Technical Data Center, Room N-2625, OSHA, U.S. Department of Labor, 200 Constitution Ave., NW., Washington, DC 20210; telephone (202) 693-2350. If your written comments are 10 pages or fewer, you may fax them to the OSHA Docket Office, telephone number (202) 693-1648. You do not have to send OSHA a hard copy of your faxed comments. You may submit comments electronically through OSHA's Homepage at http://ecomments.osha.gov/. You may not attach materials such as studies or journal articles to your electronic comments. If you wish to include such materials, you must submit three copies of them to the OSHA Docket Office at the address above. These materials must clearly identify your electronic comments by name, date, subject, and docket number so we can attach them to your comments.

FOR FURTHER INFORMATION CONTACT: For technical inquiries, contact Mr. John E. Steelnack, Directorate of Standards and Guidance, Room N-3718, OSHA, U.S. Department of Labor, 200 Constitution Ave., NW., Washington, DC 20210; telephone (202) 693-2289 or fax (202) 693-1678. For additional copies of this Federal Register notice, contact the Office of Publications, Room N-3103, OSHA, U.S. Department of Labor, 200 Constitution Ave., NW., Washington, DC 20210 (telephone (202) 693-1888). Electronic copies of this Federal Register notice, as well as news releases and other relevant documents, are available at OSHA's website on the Internet at http://www.osha.gov/.

SUPPLEMENTARY INFORMATION: OSHA published the final, revised Respiratory Protection Standard, 29 CFR 1910.134, on January 8, 1998 (63 FR 1152). The standard contains worksite-specific requirements for program administration, procedures for respirator selection, employee training, fit testing, medical evaluation, respirator use, and other provisions. However, OSHA reserved the sections of the final standard related to assigned protection factors (APFs) and maximum use concentration (MUC) pending further rulemaking (see 63 FR 1182 and 1203). On June 6, 2003, (68 FR 34036), OSHA published a proposal to revise its existing Respiratory Protection Standard to add definitions and specific requirements for APFs and MUCs. The proposed revisions also would supersede the respirator selection provisions of existing substance-specific standards with these new APFs (except the APFs for the 1,3-Butadiene Standard). The period for filing public comment on the proposal was to end on September 4, 2003. Several interested parties, including the Building and Construction Trades Department of the AFL-CIO, have requested an extension of the deadline for submitting comments based on the need for additional time to address assigned protection factors, as well as the changes to several substance-specific standards, proposed for revision in the notice. OSHA is granting the request and extending the deadline for submitting comments to October 2, 2003.

Authority

John L. Henshaw, Assistant Secretary of Labor for Occupational Safety and Health, U.S. Department of Labor, 200 Constitution Ave., NW., Washington, DC 20210, directed the preparation of this notice. It is issued under Sections 4, 6(b), 8(c), and 8(g) of the Occupational Safety and Health Act of 1970 (29 U.S.C. 653, 655, 657); section 107 of the Contract Work Hours and Safety Standards Act (the Construction Safety Act) (40 U.S.C. 333); section 41, the Longshore and Harbor Worker's Compensation Act (33 U.S.C. 941); Secretary of Labor's Order No. 5-2002 (67 FR 65008); and 29 CFR part 1911.

Signed at Washington, DC, on September 4, 2003.
John L. Henshaw,
Assistant Secretary of Labor.

[FR Doc. 03-23078 Filed 9-9-03; 8:45 am]

BILLING CODE 4510-26-P